DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Date and Times: Thursday, September 13, 2018: 9:00 a.m.-5:00 p.m. (EDT); Friday, September 14, 2018: 8:30 a.m.-3:00 p.m. (EDT).

Place: Melrose Georgetown Hotel, 2430 Pennsylvania Avenue NW, Washington, DC 20037.

Status: Open.

Purpose: At the September 13-14, 2018 meeting, the Committee will hear presentations, hold discussions on several health data policy topics and continue work on projects outlined in the NCVHS 2018 workplan. Anticipated action items during this meeting include an Environmental Scan Report on Health Terminologies and Vocabularies (T/V); and a summary report of the health T/V expert roundtable meeting held July 17-18, 2018. The NCVHS Population Health Subcommittee will hold a session with panelists to provide input to the Committee regarding strategies and resources/tools to increase access to small area data, and in general, the challenges in making relevant sub-national level health data more readily available. Subcommittee activities for discussion include the Predictability Roadmap as part of the Standards Subcommittee's project to identify possible approaches to improve predictability and improvements in the adoption and processes related to updating standards and operating rules for electronic administrative transactions (e.g., claims, eligibility, electronic funds transfer). The Privacy, Confidentiality & Security Subcommittee will continue its focus on use cases that highlight the intersection of the regulated and unregulated domains for its “Health Information Privacy and Security Beyond HIPAA” project, and will propose a model that depicts the opportunities to address risks to individually identifiable information through improved stewardship for consideration by the full Committee.

The Committee will initiate discussion regarding plans for the NCVHS Thirteenth Report to Congress. The agenda times and topics are subject to change. There will be a public comment period on both meeting days. Please refer to the posted agenda for any updates.

Contact Persons for More Information: Substantive program information may be obtained from Rebecca Hines, MHS, Executive Secretary, NCVHS, National Center for Health Statistics, Centers for Disease Control and Prevention, 3311 Toledo Road, Hyattsville, Maryland 20782, telephone (301) 458-4715. Summaries of meetings and a roster of Committee members are available on the home page of the NCVHS website: www.ncvhs.hhs.gov, where further information including an agenda and instructions to access the audio broadcast of the meetings will be posted.

Should you require reasonable accommodation, please contact the CDC Office of Equal Employment Opportunity on (770) 488-3210 as soon as possible.

Dated: July 25, 2018.
Laina Bush,
Deputy Assistant Secretary for Planning and Evaluation, Office of the Assistant Secretary for Planning and Evaluation.

[FR Doc. 2018-16361 Filed 7-30-18; 8:45 am]

BILLING CODE 4151-05-P